COMMISSION OF CIVIL RIGHTS

Sunshine Act Meeting Notice

AGENCY: United States Commission on Civil Rights.

ACTION: Notice of Commission business meeting.

SUMMARY: Notice is hereby given, pursuant to the provisions of the rules and regulations of the U.S. Commission on Civil Rights (Commission), and the Federal Advisory Committee Act (FACA), that a Business Meeting of the U.S. Commission on Civil Rights will be convened at 10 a.m. on Friday, November 18, 2016.

DATES: Friday, November 18, 2016, at 10 a.m. EST.

ADDRESSES: National Place Building, 1331 Pennsylvania Ave. NW., 11th Floor, Suite 1150, Washington, DC 20425 (Entrance on F Street NW.).

FOR FURTHER INFORMATION CONTACT: Brian Walch, Communications and Public Engagement Director. Telephone: (202) 376-8371; TTY: (202) 376-8116; Email: publicaffairs@usccr.gov.

SUPPLEMENTARY INFORMATION: This business meeting is open to the public. If you would like to listen to the business meeting, please contact the above for the call-in information.

Hearing-impaired persons who will attend the briefing and require the services of a sign language interpreter should contact Pamela Dunston at (202) 376-8105 or at signlanguage@usccr.gov at least three business days before the scheduled date of the meeting.

Meeting Agenda

I. Approval of Agenda

II. Business Meeting

A. Program Planning

• Discussion and Vote on Outline, Timeline, and Discovery Plan for FY2017 Statutory Enforcement Report

B. State Advisory Committees

• Presentation by the Chair of the Michigan Advisory Committee on the Committee's Report on Civil Forfeiture in Michigan

• State Advisory Committee Appointments

• Arkansas

• Pennsylvania

• Iowa

• Ohio

C. Management and Operations.

• Staff Director's Report

III. Adjourn Meeting

Dated: November 9, 2016.
Brian Walch,
Director, Communications and Public Engagement.

[FR Doc. 2016-27403 Filed 11-9-16; 11:15 am]

BILLING CODE 6335-01-P